DEPARTMENT OF TRANSPORTATION

Federal Aviation Administration

14 CFR Part 71

[Docket No. FAA-2021-0044; Airspace Docket No. 19-AWP-25]

RIN 2120-AA66

Proposed Amendment of Class D and Class E Airspace; Bakersfield, CA

AGENCY: Federal Aviation Administration (FAA), DOT.

ACTION: Notice of proposed rulemaking (NPRM).

SUMMARY: This action proposes to modify the Class D airspace, at Meadows Field Airport. This action also proposes to modify the Class E airspace designated as a surface area and the Class E airspace extending upward from 700 feet above the surface. Additionally, this action proposes several administrative corrections to the Class D, Class E2, and Class E5 text headers. Lastly, this action proposes to update the term “Airport/Facility Directory” in the last sentence of the Class D's airspace description to “Chart Supplement.” This action would ensure the safety and management of instrument flight rules (IFR) operations at the airport.

DATES: Comments must be received on or before April 22, 2021.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2021-0044; Airspace Docket No. 19-AWP-25, at the beginning of your comments. You may also submit comments through the internet at https://www.regulations.gov.

FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S. 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend the Class D and Class E airspace at Meadows Field Airport, Bakersfield, CA, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2021-0044; Airspace Docket No. 19-AWP-25”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S. 216th Street, Des Moines, WA 98198.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Proposal

The FAA is proposing an amendment to 14 CFR part 71 by modifying the Class D airspace at Meadows Field Airport, Bakersfield, CA. The Class D is not sized properly to contain IFR arrivals descending below 1,000 feet above the surface, or IFR departures to 700 feet above the surface. To properly contain IFR arrivals, the circular radius should be reduced from 5 miles to 4.5 miles. To properly contain IFR departures flying toward or over rising terrain, three areas should be added to the circular radius, one to the southeast of the airport and two to the northwest of the airport.

Additionally, this action proposes to modify the lateral boundaries of the Class E airspace designated as a surface area, to be coincident with the Class D airspace area.

The action also proposes to modify the Class E airspace extending upward from 700 feet above the surface. The airspace is not sized properly to contain IFR arrivals descending below 1,500 feet above the surface, or IFR departures to 1,200 feet above the surface. This airspace area should be reduced southeast of the airport and increased northwest of the airport.

Further, this action proposes to remove the Class E airspace extending upward from 1,200 feet above the surface. This airspace area is wholly contained within the Los Angeles en route airspace area, and duplication is not necessary.

This action also proposes to update the last sentence in the Class D and Class E2 airspace descriptions by replacing the term “Airport/Facility Directory” with “Chart Supplement.”

Lastly, the action proposes several administrative updates. The second line of the Class D, Class E2, and Class E5 text headers includes the city name “Bakersfield”. The city name should be removed from this line of text. The airport's geographic coordinates listed in the third line of the text header for the Class D, Class E2, and Class E5 do not match the FAA's database. The coordinates should be updated to lat. 35°26′02″ N, long. 119°03′28″ W.

Class D, E2, and E5 airspace designations are published in paragraphs 5000, 6002, and 6005, respectively, of FAA Order 7400.11E, dated July 21, 2020, and effective September 15, 2020, which is incorporated by reference in 14 CFR 71.1. The Class D and Class E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AWP CA D Bakersfield, CA [Amended]

Meadows Field Airport, CA

(Lat. 35°26′02″ N, long. 119°03′28″ W)

That airspace extending upward from the surface to and including 3,000 feet MSL within a 4.5-mile radius of the airport, and within 1.8 miles each side of the 134° bearing from the airport, extending from the 4.5-mile radius to 5.5 miles southeast of the airport, and within 1.8 miles each side of the 316° bearing from the airport, extending from the 4.5-mile radius to 5.3 miles northwest of the airport, and within 1.9 miles each side of the 331° bearing from the airport, extending from the 4.5-mile radius to 6.8 miles northwest of Meadows Field Airport. This Class D airspace area is effective during the specific dates and times established in advance by a Notice to Airmen. The effective date and time will thereafter be continuously published in the Chart Supplement.

Paragraph 6002 Class E Airspace Designated as a Surface Area.

* * * * *

AWP CA E2 Bakersfield, CA [Amended]

Meadows Field Airport, CA

(Lat. 35°26′02″ N, long. 119°03′28″ W)

That airspace extending upward from the surface within a 4.5-mile radius of the airport, and within 1.8 miles each side of the 134° bearing from the airport, extending from the 4.5-mile radius to 5.5 miles southeast of the airport, and within 1.8 miles each side of the 316° bearing from the airport, extending from the 4.5-mile radius to 5.3 miles northwest of the airport, and within 1.9 miles each side of the 331° bearing from the airport, extending from the 4.5-mile radius to 6.8 miles northwest of Meadows Field Airport. This Class E airspace area is effective during the specific dates and times established in advance by a Notice to Airmen. The effective date and time will thereafter be continuously published in the Chart Supplement.

Paragraph 6005 Class E Airspace Areas Extending Upward From 700 Feet or More Above the Surface of the Earth.

* * * * *

AWP CA E5 Bakersfield, CA [Amended]

Meadows Field Airport, CA

(Lat. 35°26′02″ N, long. 119°03′28″ W)

That airspace extending upward from 700 feet above the surface within an 8-mile radius of the airport, and within 3.8 miles east and 8.8 miles west of the 337° bearing from the airport, beginning 3.5 miles northwest of the airport and extending to 19.6 miles northwest of Meadows Field Airport.

Issued in Seattle, Washington, on February 22, 2021.
B.G. Chew,
Acting Group Manager, Operations Support Group, Western Service Center.

[FR Doc. 2021-04016 Filed 3-5-21; 8:45 am]

BILLING CODE 4910-13-P